ENVIRONMENTAL PROTECTION AGENCY

[ER-FRL-9029-2]

Environmental Impact Statements; Notice of Availability

Responsible Agency: Office of Federal Activities, General Information (202) 564-7146 or http://www.epa.gov/nepa.

Weekly receipt of Environmental Impact Statements (EISs)

Filed 09/12/2016 Through 09/16/2016

Pursuant to 40 CFR 1506.9.

Notice: Section 309(a) of the Clean Air Act requires that EPA make public its comments on EISs issued by other Federal agencies. EPA's comment letters on EISs are available at: http://www.epa.gov/compliance/nepa/eisdata.html.

EIS No. 20160211, Final, USAF, GU, Divert Activities and Exercises, Commonwealth of the Northern Mariana Islands, Review Period Ends: 10/24/2016, Contact: Mark Petersen 808-449-1078.

EIS No. 20160212, Draft, FERC, VA, Mountain Valley Project and Equitrans Expansion Project, Comment Period Ends: 12/22/2016, Contact: Paul Friedman 202-502-8059.

Dated: September 19, 2016.
Dawn Roberts,
Management Analyst, NEPA Compliance Division, Office of Federal Activities.

[FR Doc. 2016-22990 Filed 9-22-16; 8:45 am]

BILLING CODE 6560-50-P